DEPARTMENT OF COMMERCE

Foreign-Trade Zones Board

Revised Proposal for Changes to the Format of Annual Reports Submitted to the Foreign-Trade Zones Board; Extension of Comment Period

On September 14, 2009, the Foreign-Trade Zones (FTZ) Board published a notice seeking comments on proposed revisions to the format of annual reports that are submitted by grantees to the FTZ Board. The comment period on the revised proposal is being extended to November 16, 2009 to allow interested parties additional time in which to comment.

Submissions shall be addressed to the Board's Executive Secretary at: Foreign-Trade Zones Board, U.S. Department of Commerce, Room 2111, 1401 Constitution Ave., NW., Washington, DC 20230. Submissions can be e-mailed to the address provided below.

Any questions about this proposal should be directed to Elizabeth Whiteman at Elizabeth_Whiteman@ita.doc.gov or (202) 482-0473.

Dated: October 2, 2009.
Andrew McGilvray,
Executive Secretary.

[FR Doc. E9-24603 Filed 10-9-09; 8:45 am]

BILLING CODE 3510-DS-P